NUCLEAR REGULATORY COMMISSION

[Docket No. 52-047; NRC-2016-0119]

Tennessee Valley Authority; Clinch River Nuclear Site

AGENCY: Nuclear Regulatory Commission.

ACTION: Early site permit and record of decision; issuance.

SUMMARY: The U.S. Nuclear Regulatory Commission (NRC) has issued early site permit (ESP) number ESP-006 to Tennessee Valley Authority (TVA). In addition, the NRC has prepared a Summary Record of Decision (ROD) that supports the NRC's decision to issue ESP number ESP-006.

DATES: Early site permit ESP-006 became effective on December 19, 2019 and is valid for 20 years, until midnight on December 19, 2039.

ADDRESSES: Please refer to Docket ID NRC-2016-0119 when contacting the NRC about the availability of information regarding this document. You may obtain publicly-available information related to this document using any of the following methods:

• Federal Rulemaking website: Go to https://www.regulations.gov and search for Docket ID NRC-2016-0119. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: Allen Fetter, telephone: 301-415-8556; email: allen.fetter@nrc.gov; or Mallecia Sutton, telephone: 301-415-0673; email: mallecia.sutton@nrc.gov regarding safety matters; or Tamsen Dozier, telephone: 301-415-2272; email: tamsen.dozier@nrc.gov regarding environmental matters. Allen Fetter and Mallecia Sutton are staff of the Office of Nuclear Reactor Regulation and Tamsen Dozier is in the Office of Nuclear Material Safety and Safeguards, U.S. Nuclear Regulatory Commission, Washington, DC 20555-0001.

SUPPLEMENTARY INFORMATION:

I. Introduction

Under section 2.106 of title 10 of the Code of Federal Regulations (10 CFR), the NRC is providing notice of the issuance of early site permit number ESP-006 to TVA, and under 10 CFR 51.102(c), the NRC is providing notice that the ROD has been issued. With respect to the early site permit application filed by TVA, the NRC finds that the applicable standards and requirements of the Atomic Energy Act of 1954, as amended (AEA), and the Commission's regulations have been met. The NRC finds that any required notifications to other agencies or bodies have been duly made and that there is reasonable assurance that the site is in conformity with the provisions of the AEA and the Commission's regulations. Furthermore, the NRC finds that the Licensee is technically qualified to engage in the activities authorized, and that issuance of the permit will not be inimical to the common defense and security or to the health and safety of the public. Finally, the NRC finds that the findings required by subpart A of 10 CFR part 51 have been made.

Accordingly, the early site permit (ESP-006) was issued on December 19, 2019 and became effective immediately. The early site permit is valid for 20 years, until midnight on December 19, 2039.

II. Further Information

The NRC has prepared a Final Safety Evaluation Report (FSER) and Final Environmental Impact Statement (FEIS) that document the information reviewed and the NRC's conclusion. The Commission has also issued its decision on the staff's review after having held the mandatory hearing on August 14, 2019, which serves as the ROD in this proceeding. The NRC also prepared a document summarizing the ROD to accompany its actions on the ESP application; this Summary ROD incorporates by reference materials contained in the FEIS. The FSER, FEIS, Summary ROD, and accompanying documentation included in the ESP package, as well as the Commission's hearing decision and ROD, are available online in the ADAMS Public Document collection at https://www.nrc.gov/reading-rm/adams.html. From this site, persons can access the NRC's ADAMS, which provides text and image files of NRC's public documents.

III. Availability of Documents

The documents identified in the following table are available to interested persons through the ADAMS Public Documents collection. A copy of the early site permit application is also available for public inspection at the NRC's PDR and at https://www.nrc.gov/reactors/new-reactors/html.

Document | ADAMS Accession No.
Final Safety Evaluation Report for the Early Site Permit Application for the Clinch River Nuclear Site. | ML19162A157
Final Environmental Impact Statement for an Early Site Permit (ESP) at the Clinch River Nuclear Site. | ML19087A266
Commission's decision following mandatory hearing. | ML19351D663
Summary Record of Decision. | ML19233A263
Letter transmitting Early Site Permit Number ESP-006 and accompanying documentation. | ML19189A228
Early Site Permit Number ESP-006 (public version). | ML19352D868
Clinch River Nuclear Site, Early Site Permit Application, Revision 2, January 18, 2019. | ML19030A485

Dated at Rockville, Maryland, this 31st day of December 2019.
For the Nuclear Regulatory Commission.
Anna H. Bradford,
Director, Division of New and Renewed Licenses, Office of Nuclear Reactor Regulation.

[FR Doc. 2019-28520 Filed 1-3-20; 8:45 am]

BILLING CODE 7590-01-P